ENVIRONMENTAL PROTECTION AGENCY

[EPA-HQ-OAR-2004-0500; FRL 9527-5]

Information Collection Request Submitted to OMB for Review and Approval; Comment Request; EPA's ENERGY STAR Program in the Residential Sector (Renewal)

AGENCY: Environmental Protection Agency (EPA).

ACTION: Notice.

SUMMARY: The Environmental Protection Agency has submitted an information collection request (ICR), “EPA's ENERGY STAR Program in the Residential Sector” (EPA ICR No. 2193.03, OMB Control No. 2060-0586), to the Office of Management and Budget (OMB) for review and approval in accordance with the Paperwork Reduction Act (44 U.S.C. 3501 et seq.). This is a proposed extension of the ICR, which is currently approved through February 28, 2013. Public comments were previously requested via the Federal Register (77 FR 50495) on August 21, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 25, 2013.

ADDRESSES: Submit your comments, referencing Docket ID Number EPA-HQ-OAR-2004-0500, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Brian Ng, Energy Star Residential Branch, Mailcode 6202J, Environmental Protection Agency, 1200 Pennsylvania Ave. NW., Washington, DC 20460; telephone number: (202) 343-9162; fax number: (202) 343-2200; email address: ng.brian@epa.gov.

SUPPLEMENTARY INFORMATION:

Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: EPA first developed energy efficiency guidelines for new homes in 1995. ENERGY STAR's existing homes effort was rolled out in 2000 to promote cost-effective upgrades in the existing homes market. Both of these efforts promote cost effective, whole house energy efficiency improvements that are independently verified by third parties. Through 2011 there have been more than 1.3 million ENERGY STAR certified new homes built in the U.S., and more than 50,000 existing homes have been improved through the whole house retrofit program, Home Performance with ENERGY STAR.

Since participation in the ENERGY STAR program is voluntary, organizations are not required to submit information to EPA. Information received is not of a confidential nature. EPA has developed this ICR to obtain authorization to collect information for the following activities:

Joining the ENERGY STAR Program and Related Activities: An organization interested in joining ENERGY STAR as a partner is asked to submit a partnership agreement establishing its commitment to ENERGY STAR. Partners agree to undertake efforts such as educating their staff and the public about their partnership with ENERGY STAR, developing and implementing a plan to improve energy performance in homes, and highlighting achievements utilizing the ENERGY STAR label.

Verification of ENERGY STAR Guidelines: The purpose of the verification process is to ensure the quality of home construction and improvements with respect to ENERGY STAR guidelines. Under ENERGY STAR's Certified Homes program, verification of a home's energy efficiency occurs when site-built home builders or plants producing manufactured and modular homes want to apply the ENERGY STAR label on homes. The verification process involves the home builder, the verification organization (Home Energy Rating Providers and Home Energy Raters), and the Heating, Ventilation, and Cooling (HVAC) contractor. These organizations complete four checklists as part of the verification process. In addition, plants producing manufactured and modular homes must undergo a certification process to ensure that they consistently produce and install homes that meet ENERGY STAR guidelines. Under ENERGY STAR's Home Performance with ENERGY STAR, program sponsors promote a program of whole house, science-based improvements to existing homes. Sponsors oversee contractors who carry out the improvements, perform tests, and report the results to the sponsors. Under ENERGY STAR's HVAC Quality Installation program, sponsors promote the installation of HVAC systems in new and existing homes to meet ENERGY STAR guidelines. Sponsors oversee contractors who perform the installations, perform tests, and report the results to the sponsors. Sponsors submit quarterly reports to EPA on these activities.

Evaluation: Partners and other program participants are asked to periodically submit information to EPA as needed to assist in evaluating ENERGY STAR's effectiveness in helping organizations promote energy efficiency in homes, to assess partners' level of interest and ability in promoting ENERGY STAR in the residential sector, and to determine the impact that ENERGY STAR has on residential energy use and the supply and demand for energy-efficient homes and home improvement products and services. In addition, EPA offers online tools, such as the Home Energy Yardstick and Home Energy Advisor, for homeowners to learn about and improve their homes' energy efficiency.

Periodic Reporting: Some partners are asked to submit information to EPA periodically to assist EPA in tracking and measuring progress in building and promoting ENERGY STAR certified homes and installing and promoting energy-efficient improvements.

ENERGY STAR Awards: Each year, partners are eligible for an ENERGY STAR award, which recognizes organizations demonstrating outstanding support in promoting ENERGY STAR. An application is submitted to EPA by interested partners.

Outreach Partnership: Partners have the option of participating in an outreach partnership, whereby partners jointly contribute resources to the distribution of a public outreach and education campaign about ENERGY STAR certified homes.

Form Numbers:

• Partnership Letter for Home Builders, Architects & Home Plan Designers, Home Energy Raters & Providers (5900-188)

• Partnership Agreement for EEPS (5900-33)

• Commitment Form for EEPS (5900-272)

• Partnership Agreement for Lenders (5900-08)

• Partnership Agreement for HVAC QI Sponsor (5900-183)

• Partnership Agreement for Home Performance with ENERGY STAR Sponsor (5900-17)

• Implementation Plan for Home Performance with ENERGY STAR Sponsor (5900-186)

• Commitment Form for Outreach Partnership (5900-06)

• Water Management Checklist (5900-178)

• Thermal Enclosure Checklist (5900-176)

• Multifamily High Rise Developer Participation Agreement (5900-267)

• Multifamily High Rise Project Application (5900-266)

• Multifamily High Rise Testing & Verification Worksheet (5900-269)

• Multifamily High Rise Submittal Validation Form (5900-270)

• Multifamily High Rise Performance Path Calculator (5900-268)

• Modular Home Completion Report (5900-189)

• Manufactured Home Completion Report (5900-172)

• Modular Plant Qualification Form (5900-194)

• HVAC QI Rater Checklist (5900-271)

• HVAC Contractor Checklist (5900-175)

• Commissioning Report (5900-180)

• HIP Profile (5900-179)

• Energy Use Authorization Form (5900-184)

Respondents/affected entities: Home builders, modular and manufactured home manufacturing plants, developers, verification organizations, oversight organizations, lenders, energy efficiency program sponsors (e.g., national, regional, state, or local government entities, utilities), architects, home plan designers, retailers, contractors, and homeowners.

Respondent's obligation to respond: Voluntary.

Estimated number of respondents: 132,000 (total).

Frequency of response: Once, quarterly, annually, and occasionally.

Total estimated burden: 183,967 hours (per year). Burden is defined at 5 CFR 1320.3(b)

Total estimated cost: $13,553,809 (per year). This includes an estimated cost of $13,553,209 for labor and $600 for capital investment, operation and maintenance.

Changes in the Estimates: There is an increase of 3,009 hours in the total estimated respondent burden compared with the ICR currently approved by OMB. This includes a 112,566-hour increase due to program changes and a 109,557-hour decrease due to adjustments. The 112,566-hour increase due to program changes resulted primarily from EPA's new, more rigorous guidelines for new homes looking to earn the ENERGY STAR. The 109,557-hour decrease due to adjustments resulted primarily from updated and improved data and analysis.

John Moses,
Director, Collection Strategies Division.

[FR Doc. 2013-03959 Filed 2-20-13; 8:45 am]

BILLING CODE 6560-50-P